DEPARTMENT OF TRANSPORTATION

Federal Railroad Administration

[Docket No. FRA-2015-0007-N-17]

Proposed Agency Information Collection Activities; Comment Request

AGENCY: Federal Railroad Administration (FRA), Department of Transportation (DOT).

ACTION: Notice.

SUMMARY: In accordance with the Paperwork Reduction Act of 1995 and its implementing regulations, the Federal Railroad Administration (FRA) hereby announces that it is seeking renewal of the following currently approved information collection activities. Before submitting the information collection requests (ICRs) below for clearance by the Office of Management and Budget (OMB), FRA is soliciting public comment on specific aspects of the activities identified below.

DATES: Comments must be received no later than August 21, 2015.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-__.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding: (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Railroad Locomotive Safety Standards and Event Recorders.

OMB Control Number: 2130-0004.

Abstract: The Locomotive Inspection requires railroads to inspect, repair, and maintain locomotives and event recorders so that they are safe, free of defects, and can be placed in service without peril to life. Crashworthy locomotive event recorders provide FRA with verifiable factual information about how trains are maintained and operated, and are used by FRA and State inspectors for part 229 rule enforcement. The information garnered from crashworthy event recorders is also used by railroads to monitor railroad operations and by railroad employees (locomotive engineers, train crews, dispatchers) to improve train handling, and promote the safe and efficient operation of trains throughout the country, based on a surer knowledge of different control inputs.

Form Number(s): FRA F 6180.49A.

Affected Public: Businesses.

Respondent Universe: 754 Railroads.

Frequency of Submission: On occasion.

Reporting Burden:

CFR section | Respondent universe | Total annual responses | Average time per response | Total annual burden hours
229.9—Movement of Non-Complying Locomotives | 44 Railroads | 21,000 tags | 1 minute | 350
229.15—Remote control locomotive—tagging to indicate in remote control | 44 Railroads | 3,000 tags | 2 minutes | 100
—Repair record of defective OCU linked to remote control locomotive | 44 Railroads | 200 records | 5 minutes | 17
229.17—Accident Reports | 44 Railroads | 1 report | 15 minutes | .25
229.20—Electronic Recordkeeping—Automatic notice to RR each time locomotive is due for inspection or maintenance | 44 Railroads | 21,000 notifications | 1 second | 6
29.21—Daily Inspection | 754 Railroads | 6,890,000 insp. reports/records | 16 minutes or 18 minutes | 1,911,780
—Written Reports of MU Locomotive Inspections | 754 Railroads | 250 written reports | 13 minutes | 54
Locomotive Inspection and Repair Record—Form FRA F 6180.49A | 754 Railroads | 4,000 forms | 2 minutes | 133
229.23—Periodic Inspections of Locomotives | 754 Railroads | 9,500 tests/forms | 8 hours | 76,000
—Secondary record of information on Form FRA F 6180.49A | 754 Railroads | 9,500 secondary records | 2 minutes | 317
—List of defects/repairs during inspection provided to RR employees + copies of lists | 754 Railroads | 4,000 lists + 4,000 copies | 2 minutes + 2 minutes | 266
—Document from railroad to employees of all tests conducted since last periodic inspection | 754 Railroads | 9,500 documents/records | 2 minutes | 317
229.33—Out of Use Credit for Locomotives | 754 Railroads | 500 out-of-use notations | 5 minutes | 42
Recordkeeping Requirements:
229.25—Periodic Inspection of Event Recorders: Written Copy of Instructions—Amendments | 754 Railroads | 200 amendments | 15 minutes | 50
—Data Verification Readout of Event Recorder | 754 Railroads | 4,025 readout records/reports | 90 minutes | 6,038
—Pre-Maintenance Test Failures of Event Recorder | 754 Railroads | 700 test failure notations | 30 minutes | 350
229.135—Removal of event recorder from service—Tags | 754 Railroads | 1,000 removal tags | 1 minute | 17
—Preserving Locomotive Event Recorder Accident Data—reports | 754 Railroads | 10,000 data reports | 15 minutes | 2,500
Other Requirements:
229.27—Annual tests of event recorders w/self-monitoring feature displaying a failure indication—tests | 754 Railroads | 700 tests/records | 90 minutes | 1,050
229.29—Calibration of Locomotive Air Flow Meter—Tests | 754 Railroads | 88,000 tests/records | 15 seconds | 367
229.46—Tagging locomotive with inoperative or ineffective automatic/independent brake that can only be used in trailing position | 754 Railroads | 2,100 tags | 2 minutes | 70
229.85—Marking of all doors, cover plates, or barriers having direct access to high voltage equipment with words “Danger High Voltage” or with word “Danger” | 754 Railroads | 1,000 re-paintings/decals | 1 minute | 17
229.123—Locomotives equipped with a pilot, snowplow, end plate with clearance above 6 inches—Marking/stenciling with words “9 inch Maximum End Plate Height, Yard or Trail Service Only” | 754 Railroads | 20 markings/stencils | 2 minutes | 1
—Notation in Remarks section of Form FRA F6180.49A of pilot, snowplow, or end plate clearance above 6 inches | 754 Railroads | 20 notations | 2 minutes | 1
229.135—Re-manufactured locomotives equipped with certified crash-worthy event recorder | 754 Railroads | 1,000 certified memory modules | 2 hours | 2,000
229.140—Alerters—Visual indication to locomotive operator at least 5 seconds before audio alarm—New Locomotives | 754 Railroads | 74,880,000 visual indications | 4 seconds | 83,200
SUBPART E—229.303—Requests to FRA for on-track testing of products outside a facility | 754 Railroads | 20 requests | 8 hours | 160
—Identification of all products developed by Railroads and Vendors | 754 Railroads | 20 product identification documents | 2 hours | 40
229.307—Safety Analysis for each product subject to this Subpart | 754 Railroads | 300 safety analyses | 240 hours | 72,000
229.309—Safety critical changes to product subject to this Subpart—Notice to FRA | 754 Railroads | 10 notifications | 16 hours | 160
—Report by product suppliers and private owners to railroads of any safety-critical changes to product | 3 Manufacturers | 10 reports | 8 hours | 80
229.311—Railroad Notification to FRA of intent to place product subject to this Part in Service | 754 Railroads | 300 notifications | 2 hours | 600
—Railroad document provided to FRA upon request demonstrating product meets Safety Analysis requirements for life cycle of product | 754 Railroads | 300 documents | 2 hours | 600
—Railroad maintenance of data base of all safety relevant hazards encountered after product is placed in service | 754 Railroads | 300 databases | 4 hours | 1,200
—Written report to FRA disclosing frequency of safety relevant hazards for product exceeding threshold set forth in Safety Analysis | 754 Railroads | 10 written reports | 2 hours | 20
—Final Report to FRA on results of analyses and counter measures to reduce frequency of safety related hazards | 754 Railroads | 10 written final reports | 4 hours | 40
219.313—Product testing results and records | 754 Railroads | 120,000 product testing records | 5 minutes | 10,000
219.315—Railroad maintenance of Operations and Maintenance Manual containing all documents related to installation, maintenance, repair, modification, and testing of a product subject to this Part | 754 Railroads | 300 manuals | 40 hours | 12,000
—RR Configuration Management Control Plan | 754 Railroads | 300 plans | 8 hours | 2,400
—Positive ID of safety-critical components | 754 Railroads | 60,000 Identified components | 5 minutes | 5,000
229.317—RR Establishment and Implementation of Training Qualification program for products subject to this Subpart | 754 Railroads | 300 programs | 40 hours | 12,000
—Employees trained under RR program | 754 Railroads | 10,000 trained employees | 30 minutes | 5,000
—Periodic refresher training of employees | 754 Railroads | 1,000 re-trained employees | 20 minutes | 333
—RR regular and periodic evaluation of effectiveness of its training program | 754 Railroads | 300 evaluations | 4 hours | 1,200
—RR record of individuals designated as qualified under this Section | 754 Railroads | 10,000 records | 10 minutes | 1,667
Appendix F to Part 229—Guidance for Verification and Validation of Products—3rd Party Assessments | 754 Railroads/3 Manufacturers | 1 3rd party assessment | 4,000 hours | 4,000

Total Estimated Annual Responses: 82,168,698.

Total Estimated Annual Burden: 2,213,623 hours.

Status: Extension of a Currently Approved Collection.

Title: FRA Emergency Order No. 31, Notice No. 1.

OMB Control Number: 2130-0611.

Abstract: On May 21, 2015, FRA issued Emergency Order No. 31 (EO or Order) to require that the National Railroad Passenger Corporation (Amtrak) take actions to control passenger train speed at certain locations on main line track in the Northeast Corridor (as defined by 49 U.S.C. 24905(c)(1)(A)). Amtrak was required to immediately implement code changes to its Automatic Train Control (ATC) System to enforce the passenger train speed limit ahead of the curve at Frankford Junction in Philadelphia, Pennsylvania, where a fatal accident occurred on May 12, 2015. Amtrak was also required to identify all other curves on the Northeast Corridor where there is a significant reduction (more than 20 miles per hour (mph)) from the maximum authorized approach speed to those curves for passenger trains. Amtrak was then required to develop and comply with an FRA-approved action plan to modify its existing ATC System or other signal systems (or take alternative operational actions) to enable enforcement of passenger train speeds at the identified curves. Amtrak also had to install additional wayside passenger train speed limit signage at appropriate locations on its Northeast Corridor right-of-way. FRA is continuing this Emergency Order in full force and effect, and is now seeking regular clearance for the information collection associated with this Emergency Order.

Form Number(s): N/A.

Affected Public: Businesses.

Respondent Universe: 1 Railroad.

Frequency of Submission: On occasion.

Reporting Burden:

Emergency Order No. 31—Item: | Respondent universe | Total annual responses | Average time per response | Total annual burden hours
(1) Amtrak survey of Northeast Corridor (NEC) main line track system to create list identifying each main track curve where there is a reduction of more than 20 mph from the maximum authorized speed to that curve | 1 Railroad | 1 list | 32 hours | 32
(2) Development and submission of Amtrak Action Plan to FRA | 1 Railroad | 1 action plan | 80 hours | 80
(3) Installation of Additional Wayside Signs throughout NEC, particularly along curve locations, to alert engineers and conductors of maximum authorized train speed | 1 Railroad | 186 NEC wayside signs | 15.4839 minutes per sign | 48
—Notice by Amtrak to FRA of Installation of Signs along NEC designated in its | 1 Railroad | 6 notices | 15 minutes | 2
(4) Relief Petition to FRA to take action not in Accordance with this Emergency Order | 1 Railroad | 1 petition request | 80 hours | 80

Total Estimated Annual Responses: 195.

Total Estimated Annual Burden: 242.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2015-15214 Filed 6-19-15; 8:45 am]

BILLING CODE 4910-06-P